DEPARTMENT OF TRANSPORTATION

Federal Railroad Administration

[Docket Number FRA-2016-0055]

Petition for Waiver of Compliance

In accordance with part 211 of title 49 Code of Federal Regulations (CFR), this provides the public notice that by a document dated April 1, 2016, Union Pacific Railroad (UP) has petitioned the Federal Railroad Administration (FRA) for a waiver of compliance from certain provisions of the Federal railroad safety regulations contained at 49 CFR part 229—Railroad Locomotive Safety Standards. FRA assigned the petition Docket Number FRA-2016-0055.

Specifically, UP is seeking an exemption, until October 1, 2018, from the requirements of 49 CFR 229.135(b)(5) and (6), which require the use of a crash-hardened memory module as specified in Appendix D to part 229.

Title 49 CFR 229.135(b)(5) and (6) allow for a phased-in approach for upgrading the memory modules. Railroads are not required to replace functioning modules installed prior to the availability of crash-worthy modules (CHM) until the locomotives are remanufactured. Similarly, outside of the remanufacturing process, railroads have been permitted to use replacement modules that do not meet Appendix D requirements if the modules were originally manufactured prior to 2010.

As background, in September 2011, UP submitted a Request for Proposal to multiple vendors to procure a Locomotive Data Acquisition Recording System (LDARS) to meet FRA's requirement to calibrate/synchronize the event recorder and Positive Train Control (PTC) data feeds into a CHM. UP awarded the contract in March 2012 for the development of a crash-worthy LDARS in accordance with the Federal requirements. These modules would capture and synchronize existing FRA-required event-recorder data and FRA-required PTC information. In addition, UP specified LDARS be capable of recording event-recorder data feeds from a variety of locomotive control systems and data collection devices and integrating with currently installed event recorders. The vendor promised a scheduled delivery date of April 2014. However, UP did not receive a production-capable LDARS unit until September 2014. UP purchased and had planned to deploy 1,500 LDARS systems starting in the fourth quarter of 2014 but due to technology issues with LDARS, the purchased units had to be shipped back to the vendor for rework, and subsequent production of LDARS units stopped. The vendor has certified LDARS as being U.S. Department of Transportation crashworthy.

As a result of these unanticipated issues, UP experienced significant delay in accepting and installing LDARS products. There were several issues contributing to the delay, specifically, issues with the memory module firmware and LSI interface, resulting in gaps in the recorded data and gaps in the video and audio feed. These issues have required UP to “shop” the locomotives for a third time for installation of PTC onboard components.

Of the 5,656 planned PTC locomotives UP intends to replace, roughly 1,100 event recorders are not capable of integration with LDARS. There are 2,000 crash-hardened integrated data recorders that will be replaced with LDARS to meet FRA calibration requirements.

UP has more than 2,500 locomotives that have all of the equipment installed for PTC with the exception of LDARS. After UP qualifies LDARS, installation will be scheduled on the 90-day periodic maintenance inspection cycle for the 2,500 locomotives which are PTC ready, except for LDARS that are in the fleet today. The balance will be installed as UP continues to equip through September 2018, roughly 1,100 locomotives per year.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations. gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by August 29, 2016 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Robert C. Lauby,
Associate Administrator for Railroad Safety, Chief Safety Officer.

[FR Doc. 2016-16705 Filed 7-14-16; 8:45 am]

BILLING CODE 4910-06-P